UTAH RECLAMATION MITIGATION AND CONSERVATION COMMISSION

Notice of Availability of the Record of Decision for the Lower Duchesne River Wetlands Mitigation Project (LDWP), Duchesne and Uintah Counties, UT

AGENCY: Utah Reclamation Mitigation and Conservation Commission.

ACTION: Notice of Availability of the Record of Decision (ROD).

SUMMARY: On May 22, 2008, the Utah Reclamation Mitigation and Conservation Commission (Commission) selected the Proposed Action presented in the Final Environmental Impact Statement (FEIS), Lower Duchesne River Wetlands Mitigation Project (LDWP), April 2008. The Record of Decision (ROD) for that action is available as described below. The LDWP is required to mititate for impacts of the Bonneville Unit of the Central Utah Project and to fulfill other commitments to the Ute Indian Tribe made as part of the Central Utah Project. The U.S. Department of the Interior—Central Utah Project Completion Act Office, and the Commission were joint-lead agencies for the FEIS, and the Ute Indian Tribe was the lead planning partner. The LDWP FEIS addresses potential impacts related to construction and operation of features proposed for the LDWP and incorporates responses to public comments received on the Draft EIS. Based on the information and analyses in the FEIS and other relevant information, the Commission determined the Proposed Action responds best to LDWP needs and purposes and does so in an environmentally sound manner with least potential for adverse effects on social and economic resources.

ADDRESSES: Copies of the ROD and/or FEIS can be obtained at the Utah Reclamation Mitigation and Conservation Commission, 230 South 500 East, Suite 230, Salt Lake City, Utah, 84102-2045. They may also be viewed on the internet via the following Web address: http://www.mitigationcommission.gov/news.html.

FOR FURTHER INFORMATION CONTACT: Mr. Richard Mingo, Planning Coordinator at (801) 524-3168.

SUPPLEMENTARY INFORMATION: The LDWP will fulfill certain environmental mitigation commitments of the Bonneville Unit of the Central Utah Project. The Strawberry Aqueduct and Collection System is a key component of the Bonneville Unit, collecting water from the Upper Duchesne River and its tributaries and storing it in Strawberry Reservoir for delivery westward to the Wasatch Front in Utah. As a result, wetlands and wildlife habitats along the Duchesne River have been adversely impacted. Substantial wetland impacts occurred on the Uintah and Ouray Reservation lands of the Ute Indian Tribe. The LDWP has been planned in conjunction with the Ute Indian Tribe and is intended to fulfill a longstanding commitment to mitigate for these impacts on Ute Indian tribal wetland wildlife resources and to provide additional wetland/wildlife benefits to the Ute Indian Tribe. The Proposed Action would create, restore, and otherwise enhance riparian wetland habitats along or near the Duchesne River in Utah as partial mitigation for these Bonneville Unit impacts. Approximately 4,807 acres of land composed of 3,215 acres of Ute Indian Tribal trust lands, and 1,592 acres of fee lands to be acquired by the Federal Government, would be acquired and developed into three cohesive wetlands management units. A portion of the water currently managed by the Bureau of Indian Affairs for the Ute Indian Tribe under the existing Uinta Indian Irrigation Project would be utilized, along with water that may be acquired with fee land acquisitions, to create, restore and enhance wetlands throughout the LDWP area. Lands acquired in fee title (except lands acquired by eminent domain) would be transferred to the Ute Indian Tribe. All LDWP lands (leased Tribal trust and acquired lands) would be managed for project purposes by the Ute Indian Tribe under management agreements with the Joint Lead Agencies to achieve the prescribed wetlands-associated fish and wildlife benefits, and for other wetland/wildlife related tribal benefits. A Notice of Intent to initiate public scoping and prepare a Draft EIS for the LDWP was published in the Federal Register on April 25, 2001 (66 FR 20827). Scoping was accomplished by means of three public meetings convened in Ft. Duchesne, Roosevelt and Salt Lake City, Utah in May 2003. Joint Lead Agencies filed the DEIS with the EPA on November 17, 2003. Notice of Availability of the DEIS was announced in the Federal Register on November 24, 2003 (68 FR 65943). Three public meetings were held in Ft. Duchesne, Roosevelt and Salt Lake City, Utah in December 2003, to receive public comment on the DEIS. Comments received during the public comment period from November 17, 2003 to February 17, 2004, were considered in preparation of the FEIS.

Dated: August 4, 2008.
Mark A. Holden,
Projects Manager.

[FR Doc. E8-18831 Filed 8-13-08; 8:45 am]

BILLING CODE 4310-05-P